DEPARTMENT OF TRANSPORTATION

Federal Aviation Administration

14 CFR Part 39

[Docket No. 2001-NM-391-AD]

RIN 2120-AA64

Airworthiness Directives; Bombardier Model DHC-8-102, -103, -106, -201, -202, -301, -311, and -315 Airplanes

AGENCY: Federal Aviation Administration, DOT.

ACTION: Notice of proposed rulemaking (NPRM).

SUMMARY: This document proposes the adoption of a new airworthiness directive (AD) that is applicable to certain Bombardier Model DHC-8-102, -103, -106, -201, -202, -301, -311, and -315 airplanes. This proposal would require modification of the No. 3 electrical equipment panel behind the avionics rack, and modification of the No. 2 propeller de-ice timer. This action is necessary to prevent incorrect altitude information transmitted by the Mode S transponder and simultaneous loss of the Traffic Alert and Collision Avoidance System (TCAS), and increasing the possibility of an air traffic conflict. This action is intended to address the identified unsafe condition.

DATES: Comments must be received by June 23, 2003.

ADDRESSES: Submit comments in triplicate to the Federal Aviation Administration (FAA), Transport Airplane Directorate, ANM-114, Attention: Rules Docket No. 2001-NM-391-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-391-AD” in the subject line and need not be submitted in triplicate. Comments sent via the Internet as attached electronic files must be formatted in Microsoft Word 97 or 2000 or ASCII text.

The service information referenced in the proposed rule may be obtained from Bombardier, Inc., Bombardier Regional Aircraft Division, 123 Garratt Boulevard, Downsview, Ontario M3K 1Y5, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Douglas G. Wagner, Aerospace Engineer, Systems and Flight Test Branch, ANE-172, FAA, New York Aircraft Certification Office, 10 Fifth Street, Third Floor, Valley Stream, New York 11581; telephone (516) 256-7506; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-391-AD.” The postcard will be date stamped and returned to the commenter.

Availability of NPRMs

Any person may obtain a copy of this NPRM by submitting a request to the FAA, Transport Airplane Directorate, ANM-114, Attention: Rules Docket No. 2001-NM-391-AD, 1601 Lind Avenue, SW., Renton, Washington 98055-4056.

Discussion

Transport Canada Civil Aviation (TCCA), which is the airworthiness authority for Canada, notified the FAA that an unsafe condition may exist on certain Bombardier Model DHC-8-102, -103, -106, -201, -202, -301, -311, and -315 airplanes. TCCA advises of two reports of chafing of the wire bundle containing altitude encoding information on the No. 2 propeller de-ice timer. This condition, if not corrected, could result in incorrect altitude information transmitted by the Mode S transponder and simultaneous loss of the Traffic Alert and Collision Avoidance System (TCAS), and increasing the possibility of an air traffic conflict.

Explanation of Relevant Service Information

Bombardier has issued Service Bulletin 8-34-200, dated June 26, 2001, which describes procedures for modifying the No. 3 electrical equipment panel behind the avionics rack. The modification includes changing the spacer lengths for the installation of the propeller timer units and the main harness run, and securing the wiring and harness in close proximity by installing 5 tie wraps to avoid fouling conditions.

Bombardier also has issued Service Bulletin 8-30-36, dated July 13, 2000, which describes procedures for modification of the No. 2 propeller de-ice timer to ensure adequate clearance from adjacent wire runs. The modification involves replacing the existing spacers that support the No. 2 propeller de-ice timer with shorter spacers. This will increase the gap between the timer and the avionics cable and prevent fouling conditions.

Accomplishment of the actions specified in the service bulletins is intended to adequately address the identified unsafe condition. TCCA classified these service bulletins as mandatory and issued Canadian airworthiness directive CF-2001-38, dated October 11, 2001, to ensure the continued airworthiness of these airplanes in Canada.

FAA's Conclusions

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously. The actions would be required to be accomplished in accordance with the service bulletins described previously.

Changes to 14 CFR Part 39/Effect on the Proposed AD

On July 10, 2002, the FAA issued a new version of 14 CFR part 39 (67 FR 47997, July 22, 2002), which governs the FAA's airworthiness directives system. The regulation now includes material that relates to altered products, special flight permits, and alternative methods of compliance. Because we have now included this material in part 39, we no longer need to include it in each individual AD.

Cost Impact

The FAA estimates that 197 Model DHC-8-102, -103, -106, -201, -202, -301, -311, and -315 airplanes of U.S. registry would be affected by this proposed AD.

It would take approximately 4 work hours per airplane to accomplish the proposed modification of the No. 3 electrical equipment panel behind the avionics rack, at an average labor rate of $60 per work hour. The cost for required parts would be minimal. Based on these figures, the cost impact of this proposed modification on U.S. operators is estimated to be $47,280, or $240 per airplane.

It would take approximately 2 work hours per airplane to accomplish the proposed modification of the No. 2 propeller de-ice timer, at an average labor rate of $60 per work hour. The cost for required parts would be minimal. Based on these figures, the cost impact of this proposed modification on U.S. operators is estimated to be $23,640, or $120 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly de Havilland, Inc.): Docket 2001-NM-391-AD.

Applicability: Model DHC-8-102, -103, -106, -201, -202, -301, -311, and -315 airplanes; certificated in any category; having serial numbers 003 through 559 inclusive.

Compliance: Required as indicated, unless accomplished previously.

To prevent incorrect altitude information transmitted by the Mode S transponder and simultaneous loss of the Traffic Alert and Collision Avoidance System (TCAS), and increasing the possibility of an air traffic conflict, accomplish the following:

Modifications

(a) Within 6 months after the effective date of this AD, accomplish the actions specified in paragraphs (a)(1) and (a)(2) of this AD.

(1) Modify the No. 3 electrical equipment panel behind the avionics rack (including changing the spacer lengths for the installation of the propeller timer units and the main harness run, and securing the wiring and harness in close proximity by installing 5 tie wraps to avoid fouling conditions) per Bombardier Service Bulletin 8-34-200, dated June 26, 2001.

(2) Modify the No. 2 propeller de-ice timer (including replacing the existing spacers that support the timer with shorter spacers) per Bombardier Service Bulletin 8-30-36, dated July 13, 2000.

Alternative Methods of Compliance

(b) In accordance with 14 CFR 39.19, the Manager, New York Aircraft Certification Office (ACO), FAA, is authorized to approve alternative methods of compliance for this AD.

Note 1: The subject of this AD is addressed in Canadian airworthiness directive CF-2001-38, dated October 11, 2001.

Issued in Renton, Washington, on May 19, 2003.
Vi L. Lipski,
Manager, Transport Airplane Directorate, Aircraft Certification Service.

[FR Doc. 03-12964 Filed 5-22-03; 8:45 am]

BILLING CODE 4910-13-P